FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 14, 2012.

A. Federal Reserve Bank of St. Louis (Glenda Wilson, Community Affairs Officer) P.O. Box 442, St. Louis, Missouri 63166-2034:

1. Barbara K. Ferry, Nevada, Missouri, individually and as trustee of the L. Ingles Ferry Trust A; Barbara Fowler Ferry Trust; Hubert L. Fowler Trust; and the Marguerite Fowler Trust, and as a member of a family control group which includes L. Ingles Ferry; Hubert L. Fowler; Marguerite Fowler; David L. Ferry; Joseph D. Ferry; Patrick Ferry; Lindley G. Ferry; Barbara J. Benbrook; Scott D. Benbrook; Jeffrey L. Benbrook; and Emily L. Benbrook; to acquire voting shares of Mid-Missouri Bancshares, Inc., and thereby indirectly acquire voting shares of Mid-Missouri Bank, both in Springfield, Missouri.

B. Federal Reserve Bank of Minneapolis (Jacqueline G. King, Community Affairs Officer) 90 Hennepin Avenue, Minneapolis, Minnesota 55480-0291:

1. Howard J. Rubin, Minneapolis, Minnesota, as Trustee of the Jeanie Rae Thorson 2012 Generation Skipping Trust, the Kristi Jo Jacobsen 2012 Generation Skipping Trust, and the Barbara Kay Billings 2012 Generation Skipping Trust, Minneapolis, Minnesota, to join the Hanson family shareholder group, acting in concert to acquire voting shares of First LeRoy BanCorporation, Inc., and thereby indirectly acquire voting shares of First State Bank Minnesota, both in LeRoy, Minnesota.

Board of Governors of the Federal Reserve System, October 25, 2012.
Robert deV. Frierson,
Secretary of the Board.

[FR Doc. 2012-26620 Filed 10-29-12; 8:45 am]

BILLING CODE 6210-01-P